DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 85 FR 30106-30708, dated May 20, 2020) is amended to reflect the reorganization of the Division of Sexually Transmitted Disease Prevention within the National Center for HIV/AIDS, Viral Hepatitis, STD, and TB Prevention, Centers for Disease Control and Prevention.

Section C-B, Organization and Functions, is hereby amended as follows:

Delete in its entirety the titles and mission and function statements for the Division of Sexually Transmitted Disease Prevention (CVJD) and insert the following:

Division of Sexually Transmitted Disease Prevention (CVJD). (1) In cooperation with other CDC components, administers operational programs for the prevention of sexually transmitted diseases (STD); (2) provides consultation, training, statistical, educational, epidemiological, and other technical services to assist state and local health departments in the planning, development, implementation, evaluation, and overall improvement of STD prevention programs; (3) supports a nationwide framework for effective surveillance of STD other than HIV; (4) conducts behavioral, clinical, epidemiological, preventive health services, and operational research into factors affecting the prevention and control of STD; (5) provides leadership and coordinates, in collaboration with other CDC components, research and program activities that focus on STD and HIV prevention; (6) promotes linkages between health department STD programs and other governmental and non-governmental partners who are vital to effective STD prevention efforts; (7) provides technical supervision for division, state and local assignees; and (8) collaborates with other components of the division, NCHHSTP and CDC to develop and implement strategies and activities to meet goals for key division priorities.

Office of the Director (CVJD1). (1) Plans, directs and evaluates the activities of the division; (2) provides national leadership and guidance in STD science, surveillance, prevention and control policy formulation; program planning, development, management, and evaluation; development of training, educational, and health communications; (3) provides operational, administrative, fiscal, technical, and logistical support for division programs and units; (4) assures multidisciplinary collaboration in STD prevention and control activities; (5) in cooperation with other CDC components, provides leadership for developing research relevant to STD prevention and control; (6) provides leadership, guidance, and coordinates development of guidelines and standards to assure ongoing high-quality performance of STD prevention and control programs; (7) coordinates global STD activity of the division; (8) collaborates, as appropriate, with other divisions and offices in NCHHSTP, and with other divisions throughout CDC; (9) collaborates as appropriate with external organizations outside of CDC to achieve the mission of the division; and (10) manages the Tuskegee Participants Health Benefits Program.

STD Laboratory Reference and Research Branch (CVJDE). (1) Performs research on the pathogenesis, genetics, and immunology of syphilis, gonococcal and chlamydial infections, and other sexually transmitted infections (STI), including rare (e.g., chancroid) or emerging (e.g., Mycoplasma genitalium) STI; (2) conducts research and reference services to develop, evaluate, and improve laboratory STI diagnostics and methods; (3) participates in the design, implementation, and analysis of national and international STD epidemiology studies, surveillance activities, and biomedical interventions; (4) conducts laboratory-based surveillance for and research on the genetics of antimicrobial resistance in Neisseria gonorrhoeae and for other STIs; (5) serves as the WHO International Collaborating Center for Reference and Research in STI and as reference laboratory for WHO STD diagnostics and surveillance initiatives; and (6) develops STD laboratory guidelines.

Program Development and Evaluation Branch (CVJDG). (1) Provides and facilitates technical assistance and capacity building to state and local health departments, non-governmental, and other partners in the planning, implementation, and evaluation of STD prevention and control strategies; (2) monitors and evaluates STD prevention strategies to assure programmatic objectives are being met and to track individual and collective progress over time; (3) conducts analysis of STD prevention and control strategies and collaborates with partners to resolve challenges and increase awareness of best practices; (4) develops and manages programs, solicitations, and evaluation projects to advance innovations and quality improvements in STD prevention and control strategies and activities; and (5) supports the identification, translation, dissemination, and adoption of evidence-based interventions and practices by state and local health departments, non-governmental, and other prevention partners.

Surveillance and Data Science Branch (CVJDH). (1) Assesses and disseminates data on STD burden, risks, and trends in STD morbidity and mortality; (2) leads, evaluates, and provides recommendations for improving STD surveillance systems; (3) provides leadership in the management and coordination of information systems that can electronically receive, store, and transmit STD surveillance and case management data; (4) provides surveillance, data management and public health informatics technical assistance and support to the division, local and state health departments, and other national and international partners; and (5) translates informatics best practices for STD electronic case reporting, clinical decision support, and other division efforts.

Disease Intervention and Response Branch (CVJDJ). (1) Investigates STDs in the community (e.g., field testing, public health detailing, outbreak response, and contact tracing); (2) provides technical assistance and capacity in disease investigation to support communities and public health partners; (3) conducts activities to assure a competent disease investigation workforce (e.g., DIS certification, mentoring and training); and (4) provides linkage to services for STD prevention and control and other co-occurring activities (e.g., intimate partner violence, behavioral health, HIV care, PrEP, and reproductive health services).

Behavioral Science and Epidemiology Branch (CVJDK). (1) Synthesizes evidence and critically appraises existing prevention science research, as related to STD priorities; (2) identifies and describes the context for effective STD prevention science; (3) provides national and international leadership in the design and dissemination of studies to implement STD prevention interventions at individual, group, community, and structural levels; and (4) translates or adapts research strategies and evaluation results from formative assessments and prevention interventions for programmatic action and to inform national STD prevention policy and program direction.

Clinical, Economics, and Health Services Research Branch (CVJDL). (1) Develops and evaluates methodologies for conducting clinical, economic, modelling, and health services research related to STD prevention and control; (2) develops preventive clinical, health services, transmission dynamics, and cost-effectiveness models for STD-related issues; (3) estimates the economic and health impact burden of STDs and cost-effectiveness of STD prevention; (4) develops, disseminates, and evaluates STD prevention and clinical guidelines; (5) provides technical assistance, training, and capacity building pertaining to clinical and health services-related aspects of STD prevention; and (6) provides statistical research and technical assistance to others in the division and to local and state STD control programs.

Sherri Berger,
Chief Operating Officer, Centers for Disease Control and Prevention.

[FR Doc. 2020-25194 Filed 11-13-20; 8:45 am]

BILLING CODE 4160-18-P